DEPARTMENT OF HEALTH AND HUMAN SERVICES

Centers for Disease Control and Prevention

[30Day-21-20QJ]

Agency Forms Undergoing Paperwork Reduction Act Review

In accordance with the Paperwork Reduction Act of 1995, the Centers for Disease Control and Prevention (CDC) has submitted the information collection request titled National Survey of Community-Based Survey of Supports for Healthy Eating and Active Living (CBS HEAL) to the Office of Management and Budget (OMB) for review and approval. CDC previously published a “Proposed Data Collection Submitted for Public Comment and Recommendations” notice on July 20, 2020 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies' estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Survey of Community-Based Survey of Supports for Healthy Eating and Active Living (CBS HEAL)—New—National Center for Chronic Disease Prevention and Health Promotion (NCCDPHP), Centers for Disease Control and Prevention (CDC).

Background and Brief Description

Currently, little is known about the environmental and policy supports for healthful diets and regular physical activity within a community across the U.S. and how these supports are changing across time. As a result, CDC plans to conduct a survey to address this gap in knowledge. The survey will be administered to a nationally representative sample of 4,417 communities. Respondents will be city planners/managers in these communities. Information will be collected about the following topics: Community-wide planning efforts for healthy eating and active living, the built environment and policies that support physical activity, zoning that supports healthy eating and active living, public transportation policies that support healthy eating and active living, other policies and practices that support access to healthy food and healthy eating and policies that support employee breastfeeding. Data will be collected using a secure, web-based survey data collection system, with telephone and mail follow-up for non-response.

The proposed survey content and data collection procedures incorporate lessons learned during an initial pilot study (OMB Control No. 0920-0934, “Pilot Study of Community-Based Surveillance and Supports for Healthy Eating/Active Living”, Expiration 5/31/2013) as well as the 2014 baseline study (OMB Control Number 0920-1007, “National Survey of Community Based Policy and Environmental Supports for Healthy Eating and Active Living”, Expiration 1/1/2015).

Assessment of policy and environmental supports for healthful eating and physical activity will serve multiple uses. First, the collected data will describe the characteristics of communities that have specific policy and practice supports favorable for healthy diets and regular physical activity and progress since 2014. Second, the collected data will help identify the extent to which communities implement strategies consistent with current national recommendations. Third, local agencies may use the data collected to consider how they compare nationally or with other municipalities of a similar geography, population size, or urban status. Finally, this information can help guide communities and researchers in local efforts to implement and evaluate policies and practices that support healthy behaviors and choices.

OMB approval is requested for two years. Participation is voluntary and there are no costs to respondents other than their time. The total estimated annualized burden hours is 1693.

Estimated Annualized Burden Hours
Type of respondents | Form name | Number of respondents | Number of responses per respondent | Average burden per response (in hours)
City or Town Planner or Manager | National Survey of Community-Based Policy and Environmental Support for Healthy Eating and Active Living | 2,650 | 1 | 30/60
City or Town Planner or Manager | Telephone Non-response Follow-up Contact Script | 4,417 | 1 | 5/60

Jeffrey M. Zirger,
Lead, Information Collection Review Office, Office of Scientific Integrity, Office of Science, Centers for Disease Control and Prevention.

[FR Doc. 2021-01913 Filed 1-27-21; 8:45 am]

BILLING CODE 4163-18-P